DEPARTMENT OF VETERANS AFFAIRS

Advisory Committee on Minority Veterans; Notice of Meeting

The Department of Veterans Affairs (VA) gives notice under the Public Law 92-463 (Federal Advisory Committee Act) that the Advisory Committee on Minority Veterans will meet on April 4-8, 2011. The sessions will be open to the public on April 4-6, April 7 (from 2:45 p.m. until 5 p.m.) and April 8. The Committee will meet at the following locations and times:

Room C-7 at Department of Veterans Affairs, 810 Vermont Avenue, NW., Washington, DC:

April 4, 8 a.m. until 5 p.m.;

April 5, 8 a.m. until 6 p.m.;

April 6, 8 a.m. until 4:15 p.m.; and

April 8, 8 a.m. until 3 p.m.

VA Medical Center, 50 Irving Street, NW., Washington, DC:

April 7, 8 a.m. until 12:30 p.m.

Suite 400 at 1575 I Street, NW., Washington, DC:

April 7, 2:45 p.m. until 5 p.m.

The purpose of the Committee is to advise the Secretary on the administration of VA benefits and services to minority Veterans, to assess the needs of minority Veterans and to evaluate whether VA compensation, medical and rehabilitation services, outreach, and other programs are meeting those needs. The Committee makes recommendations to the Secretary regarding such activities.

On April 4, the Committee will receive briefings and updates on the roles of the advisory committee, ethics, Center for Minority Veterans, Office of Policy and Planning, Human Resources and Administration, and a round table discussion with ex-officio members. On April 5, the Committee will receive briefings and updates on the National Cemetery Administration, Veterans Health Administration, senior executive staff briefing, and Veterans Benefits Administration. In the morning on April 6, the Committee will have a panel discussion with Center for Women Veterans, Center for Faith Based, Office of Survivors Assistance, and Non-Governmental Organizations Ombudsman and receive updates from the Office of Small and Disadvantaged Business Utilization and the Office of Public and Intergovernmental Affairs. In the evening, the Committee will attend a Town Hall meeting in the Springfield, Virginia area, exact time and location to be determined. On the morning of April 7, the Committee will convene a closed session in order to protect patient privacy as the Committee tours the VA Medical Center. Closing portion of the session is in accordance with 5 U.S.C. 552b(c)(6). In the afternoon, the Committee will have exit briefings with the Veterans Health Administration, Veterans Benefits Administration, and the National Cemetery Administration. The Committee will also work on their After Action Report. On April 8, the Committee will receive public comments from 9 a.m. to 9:30 a.m. A sign-up sheet to give comments will be available at the meeting. Individuals who speak are invited to submit a 1-2 page summary of their comments at the time of the meeting for inclusion in the official meeting record. In the afternoon, the Committee will continue work on their After Action Report.

Members of the public may also submit written statements for the Committee's review to Mr. Ronald Sagudan at Department of Veterans Affairs, Center for Minority Veterans (00M), 810 Vermont Avenue, NW., Washington, DC 20420, or e-mail at Ronald.sagudan@va.gov. Any member of the public wishing to attend or seeking additional information should contact Mr. Sagudan or Mr. Dwayne Campbell at (202) 461-6191 or by fax at (202) 273-7092.

By Direction of the Secretary.
William F. Russo,
Director of Regulations Management, Office of the General Counsel.

[FR Doc. 2011-6349 Filed 3-17-11; 8:45 am]

BILLING CODE P